DEPARTMENT OF COMMERCE

National Oceanic and Atmospheric Administration

[RTID 0648-XD122]

Endangered Species; File No. 27109

AGENCY: National Marine Fisheries Service (NMFS), National Oceanic and Atmospheric Administration (NOAA), Commerce.

ACTION: Notice; receipt of application.

SUMMARY: Notice is hereby given that Christopher Marshall, Ph.D., Texas A&M University, 200 Seawolf Parkway, Building 3029, Room 253, Galveston, TX 77553, has applied in due form for a permit to take Kemp's ridley (Lepidochelys kempii), green (Chelonia mydas), loggerhead (Caretta caretta), and hawksbill (Eretmochelys imbricata) sea turtles for purposes of scientific research.

DATES: Written, telefaxed, or email comments must be received on or before August 4, 2023.

ADDRESSES: The application and related documents are available for review by selecting “Records Open for Public Comment” from the “Features” box on the Applications and Permits for Protected Species (APPS) home page, https://apps.nmfs.noaa.gov, and then selecting File No. 27109 from the list of available applications. These documents are also available upon written request via email to NMFS.Pr1Comments@noaa.gov.

Written comments on this application should be submitted via email to NMFS.Pr1Comments@noaa.gov. Please include File No. 27109 in the subject line of the email comment.

Those individuals requesting a public hearing should submit a written request via email to NMFS.Pr1Comments@noaa.gov. The request should set forth the specific reasons why a hearing on this application would be appropriate.

FOR FURTHER INFORMATION CONTACT: Erin Markin, Ph.D., or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to continue research to characterize the movement, habitat use, foraging ecology, and health of juvenile, subadult, and adult sea turtles in estuarine, coastal, and offshore waters of Texas. Up to 25 Kemp's ridley, 25 green, 25 loggerhead, and 10 hawksbill sea turtles may be captured by hand, dip net, cast net, or entanglement net, marked (temporary paint, flipper, passive integrated transponder), epibiota removed, photographed, videoed, weighed, and measured prior to release. A subset of sea turtles would be biologically sampled (blood, scute, skin) or receive transmitters (acoustic and satellite tags or a video tag attached with epoxy or by drilling through the carapace) prior to release. The permit would be valid for 10 years.

Dated: June 29, 2023.
Julia M. Harrison,
Chief, Permits and Conservation Division, Office of Protected Resources, National Marine Fisheries Service.

[FR Doc. 2023-14140 Filed 7-3-23; 8:45 am]

BILLING CODE 3510-22-P